DEPARTMENT OF TRANSPORTATION

Federal Aviation Administration

14 CFR Part 39

[Docket No. FAA-2007-27012; Directorate Identifier 2006-NM-188-AD; Amendment 39-15017; AD 2007-07-15]

RIN 2120-AA64

Airworthiness Directives; Airbus Model A300 B4-601, A300 B4-603, A300 B4-605R, A300 C4-605R Variant F, A310-204, and A310-304 Airplanes Equipped With General Electric CF6-80C2 Engines

AGENCY: Federal Aviation Administration (FAA), Department of Transportation (DOT).

ACTION: Final rule.

SUMMARY: The FAA is superseding an existing airworthiness directive (AD), which applies to certain Airbus Model A300 B4-600, B4-600R, C4-605R Variant F, and F4-600R (collectively called A300-600) series airplanes; and Model A310 series airplanes. That AD currently requires a one-time inspection for damage of the integrated drive generator (IDG) electrical harness and pyramid arm, and repair if necessary. This new AD adds new repetitive inspections, which, when initiated, terminate the inspection required by the existing AD. This new AD also requires repairing damage and protecting the harness. This new AD also provides for optional terminating action for the repetitive inspections. This new AD also removes certain airplanes from the applicability of the existing AD. This AD results from a report of structural damage on the forward pyramid arm of an engine pylon due to chafing of the IDG electrical harness against the structure of the pyramid arm. We are issuing this AD to prevent electrical arcing in the engine pylon, which could result in loss of the relevant alternating current (AC) bus bar, reduced structural integrity of the engine pylon, and possible loss of control of the airplane.

DATES: This AD becomes effective May 14, 2007.

The Director of the Federal Register approved the incorporation by reference of certain publications listed in the AD as of May 14, 2007.

On May 13, 2004 (69 FR 23090, April 28, 2004), the Director of the Federal Register approved the incorporation by reference of Airbus All Operators Telex A310-54A2038, dated February 19, 2004; and Airbus All Operators Telex A300-54A6037, dated February 19, 2004.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2004-09-01, amendment 39-13590 (69 FR 23090, April 28, 2004). The existing AD applies to certain Airbus Model A300 B4-600, B4-600R, C4-605R Variant F, and F4-600R (collectively called A300-600) series airplanes; and Model A310 series airplanes. That NPRM was published in the Federal Register on January 26, 2007 (72 FR 3764). That NPRM proposed to require a one-time inspection for damage of the integrated drive generator (IDG) electrical harness and pyramid arm, and repair if necessary. That NPRM proposed to add new repetitive inspections, which, when initiated, would terminate the inspection required by the existing AD. That NPRM also proposed to require repairing damage and protecting the harness. That NPRM also proposed to provide for optional terminating action for the repetitive inspections. That NPRM also proposed to remove certain airplanes from the applicability of the existing AD.

Comments

We provided the public the opportunity to participate in the development of this AD. No comments have been received on the NPRM or on the determination of the cost to the public.

Change to Applicability

We have removed Airbus Model A310-308 airplanes from the applicability of this AD. That model is not listed as an FAA-certified model in our type certificate data sheets.

Conclusion

We have carefully reviewed the available data and determined that air safety and the public interest require adopting the AD with the change described previously. We have determined that this change will neither increase the economic burden on any operator nor increase the scope of the AD.

Costs of Compliance

The following table provides the estimated costs for U.S. operators to comply with this AD.

Estimated Costs
Action | Work hours | Average labor rate per hour | Cost of parts | Cost per airplane | Number of U.S.- registered airplanes | Fleet cost
One-time inspection (from AD 2004-09-01) | 2 | $80 | $0 | $160 | 100 | $16,000.
Repetitive inspections and harness protection (new requirement) | 4 | 80 | 0 | $320, per inspection cycle | 100 | $32,000, per inspection cycle.
New optional modification | 8 | 80 | 2,460 | $3,100 | Up to 100 | Up to $310,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13590 (69 FR 23090, April 28, 2004) and by adding the following new airworthiness directive (AD):

2007-07-15 Airbus: Amendment 39-15017. Docket No. FAA-2007-27012; Directorate Identifier 2006-NM-188-AD.

Effective Date

(a) This AD becomes effective May 14, 2007.

Affected ADs

(b) This AD supersedes AD 2004-09-01.

Applicability

(c) This AD applies to Airbus Model A300 B4-601, A300 B4-603, A300 B4-605R, A300 C4-605R Variant F, A310-204, and A310-304 airplanes; certificated in any category; equipped with General Electric CF6-80C2 engines without full-authority digital electronic control (FADEC); excluding airplanes on which Airbus Modification 13184 was done in production.

Unsafe Condition

(d) This AD results from a report of structural damage on the forward pyramid arm of an engine pylon due to chafing of the integrated drive generator (IDG) electrical harness against the structure of the pyramid arm. We are issuing this AD to prevent electrical arcing in the engine pylon, which could result in loss of the relevant alternating current (AC) bus bar, reduced structural integrity of the engine pylon, and possible loss of control of the airplane.

Compliance

(e) You are responsible for having the actions required by this AD performed within the compliance times specified, unless the actions have already been done.

Restatement of Certain Requirements of AD 2004-09-01

All Operators Telex Reference

(f) The term “All Operators Telex,” or “AOT,” as used in paragraphs (g), (h), and (j) of this AD, means the following AOTs, as applicable:

(1) For Model A300 B4-601, A300 B4-603, A300 B4-605R, and A300 C4-605R Variant F airplanes: Airbus AOT A300-54A6037, dated February 19, 2004; and

(2) For Model A310-204, and A310-304 airplanes: Airbus AOT A310-54A2038, dated February 19, 2004.

Inspection

(g) At the applicable time in paragraph (g)(1) or (g)(2) of this AD, do a one-time detailed inspection for discrepancies of the IDG harness, harness bracket, retaining fasteners, and pyramid arm, in accordance with the applicable AOT.

(1) For airplanes on which Airbus Modification 07591 has not been incorporated as of May 13, 2004 (the effective date of AD 2004-09-01): Within 10 days after May 13, 2004.

(2) For airplanes on which Airbus Modification 07591 has been incorporated as of May 13, 2004: Within 600 flight hours after May 13, 2004.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Related Investigative and Corrective Actions for Damaged Electrical Harness

(h) If any discrepancy in the IDG electrical harness, fretting at the convoluted conduits, or contact between the IDG electrical harness and the pyramid arms is found during the inspection required by paragraph (g) of this AD: Before further flight, do the applicable related investigative actions and corrective actions in accordance with the applicable AOT.

Corrective Action for Damaged Electrical Harness Bracket, Retaining Fasteners, or Pyramid Arm

(i) If any discrepancy in the electrical harness bracket, retaining fasteners, or pyramid arm is found during the inspection required by paragraph (g) of this AD: Before further flight, repair in accordance with a method approved by the Manager, International Branch, ANM-116, Transport Airplane Directorate, FAA; the Direction Générale de l'Aviation Civile (DGAC) (or its delegated agent); or the European Aviation Safety Agency (EASA) (or its delegated agent). After the effective date of this AD, repair in accordance with a method approved by the FAA or the EASA.

No Reporting Requirement for Paragraph (g) of this AD

(j) Although the referenced AOTs describe procedures for submitting certain information to the manufacturer, no report is required for the inspection required by paragraph (g) of this AD.

New Requirements of this AD

Repetitive Inspections

(k) Within 6 months after the effective date of this AD, and thereafter at intervals not to exceed 12 months: Do a detailed inspection for damage of the IDG harness and the pylon pyramid arms, and protect the harness. Do the actions in accordance with Airbus Service Bulletin A300-24-6097, dated March 3, 2006 (for Model A300 B4-601, A300 B4-603, A300 B4-605R, and A300 C4-605R Variant F airplanes); or A310-24-2100, dated March 3, 2006 (for Model A310-204, and A310-304 airplanes). The initial inspection terminates the requirements of paragraph (g) of this AD. If any discrepancy is found: Before further flight, repair in accordance with the applicable service bulletin; except, where the service bulletin specifies to contact the manufacturer for repair instructions, this AD requires repair using a method approved by either the Manager, International Branch, ANM-116; or the EASA (or its delegated agent).

Report

(l) At the applicable times specified in paragraphs (l)(1) and (l)(2) of this AD, submit a report of the findings (both positive and negative) of each inspection required by paragraph (k) of this AD. Send the report to Airbus Customer Services Directorate, Department AI/SE-E43, 1 Rond Point Maurice Bellonte, 31707 Blagnac Cedex, France. The report must include the information specified in Appendix 01 of Airbus Service Bulletin A300-24-6097 or A310-24-2100, both dated March 3, 2006, as applicable. Under the provisions of the Paperwork Reduction Act (44 U.S.C. 3501 et seq.), the Office of Management and Budget (OMB) has approved the information collection requirements contained in this AD and has assigned OMB Control Number 2120-0056.

(1) For each inspection done after the effective date of this AD: Send the report within 30 days after the inspection.

(2) If an inspection was done before the effective date of this AD: Send the report within 30 days after the effective date of this AD.

Optional Terminating Action

(m) Replacement of the bracket feeder on the pylons terminates the requirements of this AD if the bracket feeder is replaced in accordance with Airbus Service Bulletin A300-54-6038, dated May 12, 2006 (for Model A300 B4-601, A300 B4-603, A300 B4-605R, and A300 C4-605R Variant F airplanes); or A310-54-2039, dated May 12, 2006 (for Model A310-204, and A310-304 airplanes); as applicable.

Alternative Methods of Compliance (AMOCs)

(n)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(o) EASA airworthiness directive 2006-0155, dated June 1, 2006, also addresses the subject of this AD.

Material Incorporated by Reference

(p) You must use the service information identified in Table 1 of this AD to perform the actions that are required by this AD, unless the AD specifies otherwise.

Table 1.—Required Material Incorporated by Reference
Airbus Service information | Date
All Operators Telex A300-54A6037 | February 19, 2004.
All Operators Telex A310-54A2038 | February 19, 2004.
Service Bulletin A300-24-6097, including Appendix 01 | March 3, 2006.
Service Bulletin A310-24-2100, including Appendix 01 | March 3, 2006.

You must use the service information identified in Table 2 of this AD to perform the optional terminating action, if accomplished, unless the AD specifies otherwise.

Table 2.—Optional Material Incorporated by Reference
Airbus Service information | Date
Service Bulletin A300-54-6038 | May 12, 2006.
Service Bulletin A310-54-2039 | May 12, 2006.

(1) The Director of the Federal Register approved the incorporation by reference of the service information identified in Table 3 of this AD in accordance with 5 U.S.C. 552(a) and 1 CFR part 51.

Table 3.—New Material Incorporated by Reference
Airbus Service Bulletin | Date
A300-24-6097, including Appendix 01 | March 3, 2006.
A300-54-6038 | May 12, 2006.
A310-24-2100, including Appendix 01 | March 3, 2006.
A310-54-2039 | May 12, 2006.

(2) On May 13, 2004 (69 FR 23090, April 28, 2004), the Director of the Federal Register approved the incorporation by reference of Airbus All Operators Telex A310-54A2038, dated February 19, 2004; and Airbus All Operators Telex A300-54A6037, dated February 19, 2004.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on March 28, 2007.
Ali Bahrami,
Manager, Transport Airplane Directorate, Aircraft Certification Service.

[FR Doc. E7-6450 Filed 4-6-07; 8:45 am]

BILLING CODE 4910-13-P